DEPARTMENT OF HOUSING AND URBAN DEVELOPMENT

[Docket No. FR-4420-D-07]

Redelegation of Authority for Review and Approval or Disapproval of PHA Plans

AGENCY: Office of the Assistant Secretary for Public and Indian Housing, HUD.

ACTION: Notice of Redelegation of Authority.

SUMMARY: In this notice, the Assistant Secretary for Public and Indian Housing redelegates the authority for review and approval or disapproval of the 5-year Plans and Annual Plans of a public housing agencies (PHAs) under 24 CFR part 903, and conducting all activities related to such review, approval or disapproval, to the Offices of Public Housing Hub Directors, Program Center Coordinators and to the Directors of Troubled Agency Recovery Centers, with exceptions.

EFFECTIVE DATE: January 28, 2000.

FOR FURTHER INFORMATION CONTACT: Rod Solomon, Office of Policy, Program and Legislative Initiatives, Office of Public and Indian Housing, U.S. Department of Housing and Urban Development, 451 Seventh Street, SW, Room 4116, Washington, DC 20410. Telephone number: (202) 708-0713. This is not a toll-free number. This number may be accessed via TTY by calling the Federal Information Relay Service at 1-800-877-8339.

SUPPLEMENTARY INFORMATION: On October 21, 1999 (64 FR 56844), HUD published its final rule implementing section 511 of the Quality Housing and Work Responsibility Act of 1998 (Public Law 105-276, approved October 21, 1998; 112 Stat. 2461) (referred to as the “Public Housing Reform Act”). Section 511 of the Public Housing Reform Act, which added a new section 5A to the U.S. Housing Act of 1937 (42 U.S.C. 1437 et seq; see 1437c-1), introduces the public housing agency (PHA) plans—a 5-Year Plan and an Annual Plan. Through these plans a PHA will advise HUD, its residents and members of the public of the PHA's mission for serving the needs of low-income and very low-income families, and the PHA's strategy for addressing those needs.

In accordance with section 511, the Secretary of HUD has the authority to review, approve or disapprove PHA plans submitted by PHAs. Section 511 is implemented in regulations found at 24 CFR part 903.

By separate delegation, the Secretary has elsewhere delegated to the Assistant Secretary for PIH the authority for administering the U.S. Housing Act of 1937, subject to certain exceptions.

Accordingly, the Assistant Secretary for PIH redelegates that authority as follows:

Section A. Authority Redelegated

The Assistant Secretary for Public and Indian Housing redelegates the authority for: review, approval or disapproval of PHAs' 5-year Plans and Annual Plans (“plans”) under 24 CFR part 903, and conducting all activities related to such review, approval or disapproval of the plans, to the Offices of Public Housing Hub Directors, Program Center Coordinators and Directors of Troubled Agency Recovery Centers, except as provided in Section B, below.

Section B. Authority Excepted

(1) The authority redelegated does not include the authority to waive regulations; and

(2) The Offices of Public Housing Hub Directors, Program Center Coordinators and Directors of Troubled Agency Recovery Centers may exercise the authority redelegated to disapprove a PHA plan on the grounds that the plan and/or its content is prohibited by or inconsistent with applicable Federal law only with the concurrence of the Assistant Secretary or his or her designee.

Section C. Authority to Further Redelegate

The authority redelegated in Section A may not be further redelegated.

Authority: Section 7(d), Department of Housing and Urban Development Act, 42 U.S.C. 3535(d).

Dated: January 28, 2000.
Harold Lucas,
Assistant Secretary for Public and Indian Housing.

[FR Doc. 00-3439 Filed 2-14-00; 8:45 am]

BILLING CODE 4210-33-P